DEPARTMENT OF DEFENSE

Defense Logistics Agency

[Requisition No. 07-013]

Membership of the Defense Logistics Agency (DLA) Senior Executive Service (SES) Performance Review Board (PRB)

AGENCY: Defense Logistics Agency, Department of Defense.

ACTION: Notice of membership—2007 DLA PRB.

SUMMARY: This notice announces the appointment of members to the Defense Logistics Agency Senior Executive Service (SES) Performance Review Board (PRB). The publication of PRB composition is required by 5 U.S.C. 4314(c)(4). The PRB provides fair and impartial review of Senior Executive Service performance appraisals and makes recommendations to the Director, Defense Logistics Agency (DLA) with respect to pay level adjustments and performance awards and other actions related to management of the SES cadre.

DATES: Effective Date: September 26, 2007.

ADDRESSES: Defense Logistics Agency, 8725 John J. Kingman Road, Suite 2533, Fort Belvoir, Virginia 22060-6221.

FOR FURTHER INFORMATION CONTACT: Ms. Stacey Salo, SES Program Manager, Human Resources (J-1), Defense Logistics Agency, Department of Defense, (703) 767-6406.

SUPPLEMENTARY INFORMATION: In accordance with 5 U.S.C. 4314(c)(4), the following are the names and titles of DLA career executives appointed to serve as members of the SES PRB. Members will serve a 12 month term, which begins on September 26, 2007.

PRB Chair: Major General Arthur Morrill III, USAF.

Members: Mr. Jeffrey Neal, Director, Human Resources, Ms. Mae De Vincentis, Director, Information Operations/CFO, Mr. James McClaugherty, Deputy Commander, Defense Supply Center Columbus.

Lieutenant General Robert T. Dail,
USA, Director, Defense Logistics Agency.

[FR Doc. 07-4462 Filed 9-11-07; 8:45 am]

BILLING CODE 3620-01-M